DEPARTMENT OF LABOR

Employment and Training Administration

Notice of Availability of Funds and Solicitation for Grant Applications (SGA) for High-Growth Job Training Initiative Grants for the Healthcare and Biotechnology Industries

Announcement Type: Notice of solicitation for grant applications

Funding Opportunity Number: SGA/DFA-PY 04-1.

Catalog of Federal Assistance Number: 17.261.

SUMMARY: The Employment and Training Administration (ETA), U.S. Department of Labor (DOL), announces the availability of approximately $10 million in demonstration grant funds to address labor shortages, innovative training strategies, and other workforce challenges in the Healthcare and Biotechnology industries as identified through the President's High Growth Job Training Initiative.

The President's High Growth Job Training Initiative (HGJTI) is a strategic effort to prepare workers for new and increasing job opportunities in high growth/high demand and economically vital industries and sectors of the American economy. The initiative provides national leadership for a demand-driven workforce system by identifying high growth/high demand industries, evaluating their skills needs, and leveraging the publicly funded workforce system in collaboration with private and public sector partners to ensure that people are being trained with the skills required for positions in these rapidly expanding or transforming industries.

Grant funds awarded under the HGJTI should be used to develop and implement innovative solutions to workforce challenges identified by the Healthcare industry or Biotechnology industry. Each solution should take place in the context of a strategic partnership between the public workforce system, business and industry representatives, and education and training providers such as community colleges. It is anticipated that individual awards will fall within the range of $750,000 to $1 million.

Key Dates: The closing date for receipt of applications under this announcement is November 2, 2004. Applications must be received at the address below no later than 4 p.m. (Eastern Time). Grant applications received after this time and date will not be considered.

ADDRESSES: Mailed applications must be addressed to the U.S. Department of Labor, Employment and Training Administration, Division of Federal Assistance, Attention: Eric Luetkenhaus, Reference SGA/DFA-PY04-1, 200 Constitution Avenue, NW., Room N4438, Washington, DC 20210. Telefacsimile (FAX) applications will not be accepted. Applicants are advised that mail delivery in the Washington area may be delayed due to mail decontamination procedures. Hand delivered proposals will be received at the above address.

SUPPLEMENTARY INFORMATION: This solicitation consists of seven parts:

• Part I provides background information on the President's High Growth Job Training Initiative, describes the critical elements of HGJTI grants, and highlights the special emphases for this solicitation.

• Part II describes the size and nature of the award.

• Part III describes eligible applicants.

• Part IV provides information on the application and submission process.

• Part V describes the criteria against which applications will be reviewed and explains the proposal review process.

• Part VI provides award administration information.

• Part VII contains DOL agency contact information.

• Part VIII lists additional resources of interest to applicants.

I. Funding Opportunity Description

Part A of this section provides background information on the principles and processes of the President's High Growth Job Training Initiative (HGJTI) and describes the specific results of the HGJTI process for the Healthcare and Biotechnology Industries. Part B describes critical elements of all HGJTI grants. Part C describes areas of emphasis particular to this SGA.

A. Background on the President's High Growth Job Training Initiative

The President's High Growth Job Training Initiative is a strategic effort to prepare workers for new and increasing job opportunities in high growth/high demand and economically vital industries and sectors of the American economy. The initiative is designed to provide national leadership for a demand-driven workforce system by identifying high growth/high demand industries, evaluating their skills needs, and funding demonstration projects that provide workforce solutions to ensure individuals can gain the skills to get good jobs in these rapidly expanding or transforming industries.

The foundation of this initiative is partnerships between the publicly funded workforce investment system, business and industry representatives, and education and training providers, such as community colleges. The purpose of these partnerships is to develop innovative solutions or replicate models that address a particular industry's workforce issues. These solutions demonstrate how a demand-driven workforce system can more efficiently serve the workforce needs of business while effectively helping workers find good jobs with good wages and promising career paths.

The HGJTI process engages each partner in its area of strength. Industry representatives and employers define workforce challenges facing the industry and identify the competencies and skills required for the industry's workforce. Community colleges and other education and training providers assist in developing competency models and training curricula and train new and incumbent workers. The publicly funded workforce investment system accesses human capital (youth, unemployed, underemployed, and dislocated workers), assists with training programs, and places trained workers in jobs.

The publicly funded workforce investment system is a state and local network of resources to assist businesses in recruiting, training, and retaining a skilled workforce. The cornerstone of the system is the One-Stop Career Center, which unifies numerous training, education and employment programs into a single service delivery system at the local level. State and local governments, providing strategic direction through State and Local Workforce Investment Boards, have responsibility for the ongoing operation of the One-Stop system. The Workforce Investment Act (WIA) provides significant flexibility, with significant authority reserved for the Governor and chief elected officials, to implement One-Stop systems that are tailored to the particular needs of the local and regional labor markets. ETA, in collaboration with other required Federal Partners identified in WIA, provides general leadership and guidance to these state-driven, locally-operated systems.

ETA is modeling the power of this partnership at the national level through investments in demonstration projects in twelve high growth/high demand industries. Each of the 12 industries was selected because it meets one or more of the following criteria: (1) Is projected to add substantial numbers of new jobs to the economy; (2) has a significant impact on the economy overall; (3) impacts the growth of other industries; (4) is being transformed by technology and innovation requiring new skills sets for workers; or (5) is a new and emerging business that is projected to grow. The twelve industries are:

• Advanced Manufacturing

• Automotive Services

• Biotechnology

• Construction

• Energy

• Financial Services

• Geospatial Technology

• Healthcare

• Hospitality

• Information Technology (IT) & IT Business-Related Services

• Retail

• Transportation

For each industry, ETA follows a three-step process to identify workforce challenges and solutions and demonstrate solutions nationally. First, ETA conducts an environmental scan to understand the economic conditions and workforce challenges facing the industry. Second, ETA convenes a series of meetings to offer leaders in business and industry an opportunity to share their current and future workforce needs with the workforce system. Using the information gathered at these meetings, ETA convenes a second round of meetings with industry and public workforce system representatives to verify workforce gaps and devise solutions. The results of these meetings are published in a comprehensive industry report. These reports are made available to the public via ETA's Web site http://www.doleta.gov/BRG/JobTrainInitiative as the HGJTI process is completed for each industry.

In addition to numerous industry-specific solutions, ETA identified a core set of priority solution elements that are common to all 12 target industries. These elements include:

1. Developing a pipeline of young workers;

2. Building competency models, career ladders, and career lattices for new and incumbent workers;

3. Expanding post-secondary training alternatives including apprenticeships and community colleges' workforce development programs;

4. Accessing new and/or untapped labor pools;

5. Transitioning workers from declining industries;

6. Developing strategies for retaining incumbent workers and updating their skills; and

7. Engaging small businesses.

The third and final step of the HGJTI process is a series of investments in unique, innovative, and industry-driven projects that reflect one or more of the seven elements outlined above and demonstrate training initiatives and capacity building strategies to address the industry's unique workforce challenges. Together, these projects make up a solution set tailored to each industry's specific needs.

ETA has completed the three-step HGJTI process for both the Healthcare industry and Biotechnology industry. In the spring and summer of 2004, ETA announced a first round of investments in nineteen projects under the Healthcare industry and nine projects under the Biotechnology industry. While a brief description of industry workforce challenges is provided below, applicants are encouraged to familiarize themselves with the full industry reports and with the current investments, which can be found at http://www.doleta.gov/BRG. The projects selected for funding under this SGA are intended to further enhance the existing solution sets for each industry.

Workforce Challenges in the Healthcare Industry

The Healthcare industry is responsible for 11.5 million jobs nationwide, making it the country's largest industry. In 2002, the U.S. Bureau of Labor Statistics announced that over the next ten years, the Healthcare industry is projected to add 3.5 million new jobs, the greatest job growth for any industry in the United States. Further, ten of the twenty fastest growing occupations in the nation are concentrated in health services. For example, jobs in four key healthcare occupations such as medical assistants, physician assistants, home health aides, and medical records and health information technicians, will grow by over 45 percent between 2002 and 2012.

Despite this expected growth, significant workforce supply and demand gaps currently exist across the U.S., affecting health care's three primary sectors: acute care, long term care, and primary care. Many occupations for which demand is great require two-year degrees and certifications, making community colleges an important focal point for addressing this industry's workforce challenges.

ETA hosted a series of forums in order to identify workforce challenges faced by the healthcare industry and developed a range of potential solutions to these challenges. Forum attendees identified thirteen critical workforce challenges:

Recruitment and Retention:

• Increasing available labor pools

• Accessing untapped diverse/non-traditional labor pools

• Reducing turnover

Skill Development:

• Entry-level worker preparation

• Incumbent worker training

• Need for targeted/specialized skill areas

Capacity of Education and Training Providers:

• Lack of academic and clinical instructors

• Lack of facilities and resources

• Lack of alignment between requirements and curriculum

Sustainability: Infrastructure, Leadership and Policy:

• Need for sustainable partnerships at all levels

• Opportunities to leverage funding

• Planning tools (data, projections, and information systems)

• Policy and regulatory issues

Forum attendees also identified 1,001 potential solutions to these challenges. Examples of the identified solutions include, but are not limited to:

• Youth-related programs developed and implemented by partnerships that include schools, healthcare employers, post-secondary programs for health occupations, and public workforce system entities;

• Initiatives that meet the needs for academic and clinical faculty in high-demand healthcare education programs and that are designed to adapt to changing levels of workforce demand; and

• Programs focused on non-traditional and traditional labor pools for healthcare entry-level workers that both broaden approaches to preparation programs and enhance career mobility in healthcare and related industries.

Workforce Challenges in the Biotechnology Industry

The Biotechnology industry is an emerging industry with large growth potential. The industry has more than tripled in size since 1992, with revenues increasing from $8 billion in 1992 to $28.5 billion in 2001. Additionally, the Biotechnology industry is expected to add approximately 101,900 new positions between 2002 and 2007, growing from 713,000 workers to 814,900 workers. Because of this rapid growth, significant workforce supply and demand gaps currently exist across the United States. The gaps remain consistent across Biotechnology industry regional cluster areas and across levels of education. For example, the projected growth by 2012 for Medical Scientists (doctoral degree) is 26.9 percent; Biomedical Engineers (bachelors degree), 26.1 percent, and Biological Technicians (Associates Degree), 19.4 percent.

The Biotechnology industry faces a number of workforce challenges. For example, because of the emerging nature of the industry, occupations are often difficult to classify, and the public is unaware of the range of employment opportunities available in the industry. Furthermore, employee skill upgrades are required on a regular basis to keep up with rapidly changing technology and skills requirements. Additionally, there is a need for articulated career ladders and lattices that allow individuals to advance from technician positions to engineer positions.

ETA conducted three meetings with the biotechnology industry to allow business and industry an opportunity to share their current and future workforce challenges. Forum attendees identified the following six critical workforce challenges:

Pipeline Issues:

• Recruitment of new employees to the industry

• Retention

Skills, Competencies, and Training Issues:

• Developing competencies and career ladders

• Mapping occupations to other industries

Image and Outreach to the Public:

• Definition of the industry

• Image of the industry

The forums also identified 137 potential solutions to these challenges. Examples of the identified solutions include, but are not limited to:

• Programs focused on developing an industry-validated definition and corresponding pipeline of characteristics that creates exposure and demonstrates the critical skills and attributes needed for employment within the industry; and

• Programs designed to better prepare educators for teaching the requisite skills necessary for entry into the industry, e.g., teacher externships.

B. Critical Elements of High Growth Grants

HGJTI funded grants are expected to contain at least six critical elements. These elements consist of: (1) New and innovative solutions; (2) strategic partnerships; (3) leveraged resources; (4) sustainability; (5) replication of successful models for broad distribution; and (6) clear and specific outcomes. Each of these characteristics will be reflected in the ratings criteria in Part V and is described in further detail below.

1. Innovative Solution(s) to Industry Identified Workforce Challenges. The HGJTI employs a solutions based approach to addressing the needs of the 21st Century workforce. In a solutions based approach, the grantee works through the cycle of (1) collecting and analyzing information about workforce issues; (2) incorporating a business or demand-driven perspective; (3) ensuring the right strategic partners are at the table; (4) working collaboratively to explore, frame, and implement solutions; and (5) assessing how the products and outcomes of the project can be effectively deployed and replicated. Applicants are not limited in the strategies and approaches they may employ to implement solutions, provided the strategy is well developed and meets industry and local area workforce challenges. Examples of previously funded solutions include:

• An incumbent worker career acceleration program that provides remedial education and skills-based training programs to workers in a hospital setting. On-site training opportunities help the hospital retain workers while helping workers upgrade their skills, making them eligible for critical skills shortage positions.

• A program led by a local Workforce Investment Board, in partnership with community colleges and local employers, to develop career pathways in biotechnology fields through training models targeted at transitioning workers and entry-level workers in need of remedial skill training.

2. Strategic Partnerships. ETA believes that strategic partnerships between the public workforce system, business and industry entities, economic development agencies, and community colleges or other education and training providers need to be in place in order to implement effective workforce development solutions. In order to maximize success of the solution and to keep pace with the rapid changes in the economy and the nature of the skills and competencies necessary for work in these industries, these partnerships need to be substantial and sustained. Furthermore, each partner needs to have a clearly defined role in the partnership. By contributing to the workforce system's efforts to become demand driven, these strategic alliances maximize the impact of the partnership on both businesses and the U.S. labor pool.

3. Leveraged Funds and Resources. HGJTI investments leverage funds and resources from key entities in the strategic partnership. Leveraging resources in the context of strategic partnerships accomplishes three goals: (1) It allows for the pursuit of resources driven by the strategy; (2) it increases stakeholder investment in the project at all levels including design and implementation phases; and (3) it broadens the impact of the project itself.

Businesses, faith-based and community organizations, and foundations often invest resources to support workforce development. In addition, other government programs, including other Employment and Training Administration programs, such as registered apprenticeship and Job Corps, as well as non-ETA One-Stop partner programs such as Vocational Rehabilitation and Adult Education may have resources available that can be integrated into the proposed project. ETA encourages HGJTI grantees and their partners to be entrepreneurial as they seek out, utilize, and sustain these resources, whether it is in-kind or cash contributions, when creating effective solutions to the workforce challenges identified by the industry.

4. Sustainability. The HGJTI investment should be considered as seed funding. Thus, ETA intends that the partnerships and/or solutions-based activities be sustainable long after the federal investment has ended. While financial resources are important, they are not the only component of sustainability. Sustainability is also created through the partnerships formed before and during the grant term; systems, strategies, and processes put in place during the grant period; and the experience gained through implementing a HGJTI grant. All of these may provide the foundation for developing long-term systemic solutions to workforce challenges in high growth/high demand industries.

5. Replication. The HGJTI is driving the Workforce Investment System to become demand-driven through the broad, national dissemination of the products, models, and effective approaches that result from HGJTI investments. Solution sets should demonstrate how a demand-driven workforce system can more efficiently serve the workforce needs of business while at the same time helping workers find good jobs with good wages and promising career pathways. To that end, the outcomes of HGJTI projects should be replicable in a variety of settings and, if appropriate, other industries. Learning and achievement resulting from HGJTI projects should be developed into solution models that can be shared with and implemented by the public workforce system, industry leaders, and education and training community.

6. Outcomes. Clear and specific outcomes that are appropriate to the nature of the solution and the size of the project are vital components of HGJTI projects. However, because HGJTI grants demonstrate solutions-based approaches to addressing industry workforce challenges, ETA recognizes that specific outcomes will vary from project to project based on the specific solution proposed. Projects that address building capacity should report on the status of products and activities and describe the impact each outcome has on the industry. For example, a project with a curriculum development component would predict impact on ability to train and certify individuals for specific occupations. Proposals that contain training elements should report outcome measures such as how many trainees received jobs or promotions, as well as trainee earnings gains and retention.

C. ETA Emphases for This SGA

In addition to the critical elements described above, ETA has developed three areas of emphasis for Healthcare and Biotechnology projects funded through this SGA: (1) The specific workforce challenges identified by each industry; (2) the integration of Workforce Investment Act funding into the project; and (3) regional approaches to workforce challenges.

1. Healthcare and Biotechnology Industry-Identified Workforce Challenges. Based on the scope and nature of investments made during the first funding round, ETA has identified specific workforce challenges for emphasis in this SGA. Applicants are encouraged to develop proposals that address these challenges; however, all unique and innovative proposals providing solutions to identified industry workforce challenges will be considered and reviewed.

Healthcare

• Increasing the capacity of education and training providers: Applicants are encouraged to submit projects that address shortages of qualified academic and clinical faculty to teach nursing and other health care-related occupational skills in community colleges.

• Accessing untapped labor pools: Applicants are encouraged to submit projects that focus on accessing new and untapped labor pools to fill healthcare industry positions. Untapped labor pools may include women or men (depending on the occupation), minority populations, older workers, workers transitioning from declining industries, those with limited English proficiency, veterans, and persons with disabilities. Where appropriate, applicants are encouraged to partner with faith-based and community organizations to deliver social services to these labor pools.

• Developing specialized skill sets: The demand for highly skilled incumbent workers as well as new workers in the healthcare industry is high. While this challenge is well-recognized for the general nursing field, ETA would like to draw attention to the needs of specialty nursing areas and the allied health fields (radiological and surgical technicians, dental hygienists, etc.).

Applicants are encouraged to propose solutions that develop competency models for these occupations with a specific focus on career lattices. Career lattices articulate clear paths employees may follow to move horizontally, vertically, and diagonally within a single occupation or across occupations to advance their careers by moving into positions with more responsibility and increased compensation and benefits.

Biotechnology

• Accessing untapped labor pools: Applicants are encouraged to submit projects that focus on accessing new and untapped labor pools to fill biotechnology industry positions. Untapped labor pools may include women, minority populations, older workers, workers transitioning from declining industries, those with limited English proficiency, veterans, and persons with disabilities. Where appropriate, applicants are encouraged to partner with faith-based and community organizations to deliver social services to these labor pools.

• Increasing retention through skills training: Applicants are encouraged to submit proposals for projects that develop and implement curricula for new and incumbent workers in either community college or business settings for specialty skills areas such as bioinformatics and Good Manufacturing Practices (GMP).

• Developing apprenticeship models for biotechnology occupations: Applicants are encouraged to submit proposals that integrate apprenticeship opportunities into skill development programs in the biotechnology industry.

• Developing career guidance for young adults and adults: Applicants are encouraged to submit proposals that address the industry-identified need for new models that help adults and youth understand career options and opportunities in the biotechnology industry.

2. Integrated WIA Funding. Applicants are encouraged to integrate Workforce Investment Act (WIA) funding at the state and local level into their proposed project. Integrating WIA funds ensures that the full spectrum of assets available from the workforce system is leveraged to support the HGJTI solution. The wide variety of WIA programs and activities provide both breadth and depth to the proposed solution offered to both businesses and individuals. In addition, the use of WIA funds embeds the solution into the local or regional Workforce Investment System, which serves to strengthen the system's ability to become more demand-driven.

The integration of WIA funds may take many forms. For example, HGJTI funds may be used for the development of curriculum and training materials while WIA resources for Individual Training Accounts (ITAs) provide training under the new curriculum, and other WIA resources fund supportive services (such as transportation or child care) to training recipients. Applicants may wish to consider the appropriateness of a variety of WIA funds such as Job Corps (Title 1, Subtitle C), Youth (section 129), Adults and Dislocated Workers (section 133), Native Americans (section 166), Migrant and Seasonal Farm Workers, (section 167), Youth Opportunity Grants (section 169), Trade Adjustment Assistance (section 170), Other Demonstrations and Pilot Projects (section 171), and National Emergency Grants (section 173).

Applicants that demonstrate evidence of integration of WIA funds into the project will receive 5 bonus points in the final score of their proposal. Please note that WIA integrated funds used for the proposed solution may not be counted towards the match requirement. In addition, all federal requirements will continue to apply to WIA funds integrated into HGJTI projects. However, once grants are awarded, grantees will be encouraged to apply for waivers of statutory and regulatory requirements through their states as authorized under section 189 of WIA.

3. Regional Approach. Often-times, addressing the critical challenges job seekers and employers face requires the considerable leveraging of efforts by the employment, education, and economic development systems that impact expanded labor markets. Since HGJTI grants are designed to provide workforce solutions that are relevant in a variety of geographical areas and business and education settings, applicants are encouraged to connect their projects to larger regional efforts. Regional approaches can occur at a variety of scales, ranging from local projects involving multiple workforce investment boards to state-wide or multi-state projects.

II. Award Information

A. Award Amount

ETA intends to fund 10 to 12 projects at a range of $750,000 to $1 million; however, this does not preclude funding grants at either a lower or higher amount, or funding a smaller or larger number of projects, based on the type and the number of quality submissions. Applicants are encouraged to submit budgets for quality projects at whatever funding level is appropriate to the project. Nevertheless, applicants should recognize that the limited funds available through this SGA are intended to supplement project budgets rather than be the sole source of funds for the proposal.

B. Period of Performance

The initial period of grant performance will be up to 24 months from the date of execution of the grant documents. If applied for, ETA may elect to exercise its option to award no-cost extensions to these grants for an additional period based on the success of the program and other relevant factors.

III. Eligibility Information

A. Eligible Applicants

Applicants may be public, private for-profit, and private non-profit organizations including faith-based and community organizations. The application must clearly identify the applicant and describe its capacity to administer the HGJTI Healthcare and/or Biotechnology grant, in terms of both organizational capacity and data management capabilities. Please note that the applicant and fiscal agent must be the same organization.

B. Matching Funds

Applicants must provide resources equivalent to at least 50 percent of the grant award amount as matching funds. This match may be provided in cash or in-kind; however, at least 50% of the total grant match amount must be a cash match provided by business partners. Please note that neither prior investments nor Federal resources may be counted as match.

Please note that to be allowable as part of match, a cost must be an allowable charge for Federal grant funds. If the cost would not be allowable as a grant-funded charge, then it also cannot be counted toward matching funds. Matching funds must be expended during the grant period of performance. Applicants are encouraged to leverage additional funds outside of the match to supplement the project as a whole.

C. Demonstrated Partnerships

Applicants must demonstrate the existence of a partnership that includes at least one entity from each of three categories: (1) The publicly-funded Workforce Investment System, which may include state and local Workforce Investment Boards, State Workforce Agencies, and One Stop Career Centers and their partners; (2) the education and training community, which includes community and technical colleges, four year colleges and universities, and other training entities; and (3) employers or industry-related organizations such as associations and unions. While ETA welcomes applications from newly formed partnerships, applicants are advised that grant funds may not be used for partnership development.

D. Other Eligibility Requirements

• Participants Eligible to Receive HGJTI Training. This element applies only to proposals with a training component. Generally, the scope of potential trainees is very broad. Training may be targeted to a wide variety of populations, including unemployed individuals and incumbent workers. The identification of targeted and qualified trainees should be part of the larger project planning process by the required partnership and should relate to the workforce issue that is being addressed by the training.

Veterans Priority. This program is subject to the provisions of the “Jobs for Veterans Act,” Public Law 107-288, which provides priority of service to veterans and spouses of certain veterans for the receipt of employment, training, and placement services in any job training program directly funded, in whole or in part, by the Department of Labor. Please note that, to obtain priority of service, a veteran must meet the program's eligibility requirements. ETA Training and Employment Guidance Letter (TEGL) No. 5-03 (September 16, 2003) provides general guidance on the scope of the veterans priority statute and its effect on current employment and training programs.

• Administrative Costs. Under the President's High Growth Job Training Initiative, an entity that receives a grant to carry out a project or program may not use more than 10 percent of the amount of the grant to pay administrative costs associated with the program or project. Administrative costs are defined at 20 CFR 667.220. Although there will be administrative costs associated with the managing of the partnership as it relates to specific grant activity, the primary use of funding should be to support the actual capacity building or training activity(ies).

• ETA Distribution Rights. Applicants should note that grantees must agree to give USDOL-ETA the right to use and distribute all training models, curricula, technical assistance products, etc. developed with grant funds. USDOL-ETA has the right to use, reuse, and modify all grant-funded products, curricula, materials, etc. Additionally, USDOL-ETA has the right to distribute these grant-funded materials and products to any interested parties, including broad distribution to the state and local public workforce system through Internet-based and other means.

• Legal rules pertaining to inherently religious activities by organizations that receive Federal Financial Assistance. The government is generally prohibited from providing direct financial assistance for inherently religious activities. These grants may not be used for religious instruction, worship, prayer, proselytizing or other inherently religious activities. Neutral, non-religious criteria that neither favor nor disfavor religion will be employed in the selection of grant recipients and must be employed by grantees in the selection of sub-recipients.

IV. Application and Submission Information

A. Address To Request Application Package

This SGA contains all of the information and forms needed to apply for grant funding.

B. Content and Form of Application Submission

Applicants must submit an original signed application and two hard copies. The proposal must consist of two (2) separate and distinct parts, Parts I and II. Applications that fail to adhere to the instructions in this section will be considered non-responsive and will not be considered.

Part I of the proposal is the Cost Proposal and must include the following four items:

• The Standard Form (SF) 424, “Application for Federal Assistance” (Appendix A). Upon confirmation of an award, the individual signing the SF 424 on behalf of the applicant shall represent the responsible financial and administrative entity. Beginning October 12, 2003, all applicants for federal grant and funding opportunities are required to have a Dun and Bradstreet (DUNS) number. See OMB Notice of Final Policy Issuance, 68 FR 38402 (June 27, 2003). Applicants must supply their DUNS number in item #5 of the new SF-424 issued by OMB (Rev. 9-2003). The DUNS number is a nine-digit identification number that uniquely identifies business entities. Obtaining a DUNS number is easy and there is no charge. To obtain a DUNS number, access this Web site: http://www.dunandbradstreet.com or call 1-866-705-5711.

• The Budget Information Form (Appendix B). In preparing the Budget Information form, the applicant must provide a concise narrative explanation to support the request. The budget narrative should break down the budget and corresponding matching funds by deliverable and should discuss precisely how the administrative costs support the project goals.

• Assurances and Certifications Signature Page (Appendix C).

Part II of the application is the Technical Proposal, which demonstrates the applicant's capabilities to plan and implement the President's High Growth Job Training Initiative grant project in accordance with the provisions of this solicitation. The Technical Proposal is limited to twenty five (25) double-spaced single-sided, 8.5 inch x 11 inch pages with 12 point text font and one-inch margins. In addition, the applicant may provide resumes, a staffing pattern, statistical information and related material in attachments, which may not exceed fifteen (15) pages. Although not required, letters of commitment from partners providing financial resources may be submitted as attachments. Such letters will not count against the allowable maximum page total. The applicant must briefly reference any partners in the text of the Technical Proposal.

No cost data or reference to prices should be included in the Technical Proposal. The following information is required:

• A two-page abstract summarizing the proposed project and applicant profile information including: applicant name, project title, industry focus (healthcare or biotechnology), industry workforce challenges addressed, partnership members, funding level requested, and the match amount.,

• A table of contents listing the application sections,

• A time line outlining project activities, and

• A project description as described in the Criteria section of this solicitation.

Please note that the abstract, table of contents, and time line are not included in the twenty five page limit. Applications that do not meet these requirements will not be considered.

C. Submission Date, Times, and Addresses

The closing date for receipt of applications under this announcement is November 2, 2004. Applications must be received at the address below no later than 4 p.m. (Eastern Time). Applications sent by e-mail, telegram, for facsimile (FAX) will not be accepted. Applications that do not meet the conditions set forth in this notice will not be honored. No exceptions to the mailing and delivery requirements set forth in this notice will be granted.

Mailed applications must be addressed to the U.S. Department of Labor, Employment and Training Administration, Division of Federal Assistance, Attention: Eric Luetkenhaus, Reference SGA/DFA-PY04-1, 200 Constitution Avenue, NW., Room N4438, Washington, DC 20210. Applicants are advised that mail delivery in the Washington area may be delayed due to mail decontamination procedures. Hand delivered proposals will be received at the above address.

Applicants may apply online at http://www.grants.gov. Applicants submitting proposals online are requested to refrain from mailing an application as well.

Any application received after the deadline will not be considered.

D. Intergovernmental Review

This funding opportunity is not subject to Executive Order (EO) 12372, “Intergovernmental Review of Federal Programs.”

E. Funding Restrictions

Determinations of allowable costs will be made in accordance with the applicable Federal cost principles, e.g., Non-Profit Organizations—OMB Circular A-122. Disallowed costs are those charges to a grant that the grantor agency or its representative determines not to be allowed in accordance with the applicable Federal Cost Principles or other conditions contained in the grant.

F. Other Submission Requirements

Withdrawal of Applications. Applications may be withdrawn by written notice or telegram (including mailgram) received at any time before an award is made. Applications may be withdrawn in person by the applicant or by an authorized representative thereof, if the representative's identity is made known and the representative signs a receipt for the proposal.

V. Application Review Information

A. Evaluation Criteria

This section identifies and describes the criteria that will be used to evaluate the President's High Growth Job Training Initiative Grant proposals. These criteria and point values are:

Criterion | Points
1. Statement of Need | 10
2. Linkages to Key Partners | 15
3. Leveraged Resources | 10
4. Innovative Solutions to Address Industry Identified Workforce Challenges | 25
5. Outcomes, Benefits, and Impact | 15
6. Replication | 15
7. Program Management and Organization Capacity | 10
** Bonus: Integration of WIA Funds | 5
Total Possible Points | 105

1. Statement of Need (10 Points)

The applicant must demonstrate a clear and specific need for the HGJTI investment in the proposed solution. This should be accomplished by describing the nature of the Healthcare or Biotechnology industry workforce challenge(s) addressed in the proposal with respect to the specific economic and workforce conditions in the area in which the grant activity will take place. Applicants may draw from a variety of resources for supporting data, including traditional labor market information, information from economic developers on locally projected growth, information collected by business organizations such as chambers of commerce and trade associations, and discussions with local businesses that make up the high growth, high demand industries. Scoring on this factor will be based on the extent of demonstrated need. Important factors for evaluation include:

• Demonstrated knowledge of the Healthcare or Biotechnology industry in the local area, including the impact of the industry on the local or regional economy.

• Demonstrated existence of the identified workforce challenges in the area in which the grant activity will take place.

• Identification of the sources of the data used in the analysis.

• If appropriate, the nature of larger strategic economic development or workforce investment projects with which the proposed project is aligned.

2. Linkages to Key Partners (15 Points)

The application must demonstrate that the proposed project will be implemented by a partnership which includes at least one entity from each of three categories: (1) The publicly-funded Workforce Investment System, (2) education and training providers such as community colleges, and (3) employers and industry representatives. ETA encourages, and will be looking for, applications that go beyond the minimum level of partnership and demonstrate broader, substantive and sustainable partnerships. The applicant should identify the partners and explain the meaningful role each partner will play in the project.

Scoring on this factor will be based on the comprehensiveness of the partnership and the degree to which each partner plays a committed role, either financial or non-financial, in the proposed project. Important factors include:

• The scope of each partner's contribution, their knowledge and experience concerning the proposed grant activities, and their ability to impact the success of the project.

• The overall completeness of the partnership, including its ability to manage all aspects and stages of the project and to coordinate individual activities with the partnership as a whole.

• Evidence that key partners have expressed a clear commitment to the project and understand their areas of responsibility.

• Evidence of a plan for interaction between partners at each stage of the project, from planning to execution.

• Evidence that the partnership has the capacity to achieve the outcomes of the proposed project.

3. Leveraged Resources (10 Points)

Applicants must demonstrate their ability to provide resources equivalent to at least 50 percent of the grant award amount as matching funds. Both cash and in-kind matching funds are acceptable; however, at least 50% of the total grant match amount must be a cash match provided by employers or industry representative partners.

Scoring on this factor will be based on the extent to which the applicant fully describes the size, nature, and quality of the non-Federal match. Important elements of the explanation include:

• Which partners have contributed to the match and the extent of each contribution.

• The nature of the match, including an itemized description of each cash or in-kind contribution and a description of how each contribution will be used.

• The quality of the match, including the quality of each in-kind contribution and the extent to which each contribution furthers the goals of the project.

If the applicant leverages additional non-match resources, the nature and quality of these resources should also be explained according to the guidelines described above.

Bonus: Integration of WIA funds. Applicants who plan to integrate WIA funding into the implementation of the proposed project must describe in detail how such funds will be used and demonstrate how these funds will contribute to the goals of the project and ultimately, to the workforce investment system in which they reside. Applicants who demonstrate a firm commitment to leverage WIA funding will receive five bonus points.

4. Innovative Solutions To Address Industry Identified Workforce Challenges (25 Points)

Approach/Strategy: The applicant must describe the proposed solution strategy in full. The description should demonstrate (1) that the proposed project will address one or more identified workforce challenges in the Healthcare or Biotechnology industries through an innovative solution strategy; (2) that the project will contribute to a demand-driven workforce investment system; and (3) that the applicant has a clear understanding of the tasks required to successfully meet the objectives of the grant.

Scoring on this factor will be based on evidence that the applicant has developed an effective, innovative solutions-based approach and a plan of implementation that will address the three objectives described above. Applicants will be evaluated based on the following factors:

• The existence of a work plan that is responsive to the applicant's statement of need and includes specific goals, objectives, activities, implementation strategies, and a timeline.

• The demonstrated link between the proposed project and a workforce challenge identified in either the biotechnology or healthcare industry forums documented in the industry reports.

• The extent to which the work plan provides an understanding of the entire project's intended implementation and outcomes.

• The extent to which the approach reflects and builds on the applicant's core capacities.

• The feasibility and sensibility of the timeframes for the accomplishment of tasks.

• The extent to which the budget is justified with respect to the adequacy and reasonableness of resources requested.

• Whether budget line items are consistent with and tied to the work plan objectives.

• The existence of a sound strategy that incorporates outreach activities geared towards appropriate audiences, including disseminating information about the project, planned activities, and, if appropriate, recruitment of eligible participants.

• The proposed impact on the demand-driven Workforce Investment System.

Innovation: Applicants should fully describe the innovative and creative approaches to be undertaken in the context of their solution strategies. Examples of innovative approaches may include creativity in the content of the product or training being delivered, the form and style with which it is delivered, and the manner of managing and executing its development. Innovation may also take place in the context of unique partnerships.

Scoring on this element will be based on the degree to which the applicant demonstrates that the approaches and techniques through which the solutions are implemented are creative, unique, and not duplicative of previously funded HGJTI projects.

5. Outcomes, Benefits, and Impact (15 Points)

Applicants must describe fully the predicted outcomes and products resulting from the project. Applicants should also demonstrate a results-oriented approach to managing and operating the project by describing proposed outcome measures relevant to measuring the success or impact of the project. For example, projects with training components may include as outcome measures employment placement numbers, and the number of certifications or degrees awarded. Projects with capacity building components may include the number of participants or entities who will benefit. Any discussion of outcome goals should include the methods proposed to collect and validate outcome data in a timely and accurate manner.

Scoring on this factor will be based on evidence that the expected project outcomes are clearly identified, measurable, realistic, and consistent with the objectives of the project. Additional factors to be examined include:

• The ability of the applicant to achieve the stated outcomes within the time frame of the grant.

• The appropriateness of the outcomes with respect to the requested level of funding.

• The extent to which the products and outcomes of the grant will be of significant and practical use to the Workforce Investment System and the target industry.

6. Replication (15 Points)

Applicants must describe how the products and outcomes of the solution(s), including models, curricula, career ladders and lattices, partnership strategies, and best practices can be replicated. Also important is evidence that the benefits of the project will be sustained. This may be demonstrated by indicating how the products and outcomes will become imbedded into the long-term systemic solutions and activities of the industry, the education and training community, and/or the workforce system.

Scoring on this factor will be based on the extent to which the applicant provides evidence that the project's products and outcomes can be replicated, and that the benefits of the project will be sustained.

7. Program Management and Organization Capacity (10 Points)

Applicants should identify a proposed project manager, discuss the proposed staffing pattern and the qualifications and experience of key staff members, provide detailed descriptions of the roles of the participating partners, and give evidence of the utilization of data systems to track outcomes. The applicant should also include a description of organizational capacity and the organization's track record in projects similar to that described in the proposal and/or related activities of the primary partners.

Scoring on this factor will be based on evidence of the following:

• The time commitment of the proposed staff is sufficient to ensure proper direction, management, and timely completion of the project.

• The roles and contribution of staff, consultants, and collaborative organizations are clearly defined and linked to specific objects and tasks.

• The background, experience, and other qualifications of the staff are sufficient to carry out their designated roles.

• The applicant organization has significant capacity to accomplish the goals and outcomes of the project, including appropriate systems to track outcome data.

B. Review and Selection Process

Applications for the President's High Growth Job Training Initiative Grants will be accepted after the publication of this announcement until the closing date. A technical review panel will make careful evaluation of applications against the criteria. These criteria are based on the policy goals, priorities, and emphases set forth in this SGA. Up to 105 points may be awarded to an application, including the five point bonus for WIA integration, based on the required information described in Part V (1). The ranked scores will serve as the primary basis for selection of applications for funding, in conjunction with other factors such as urban, rural, and geographic balance; the availability of funds; and which proposals are most advantageous to the Government. The panel results are advisory in nature and not binding on the Grant Officer. The Government may elect to award the grant(s) with or without discussions with the applicants. Should a grant be awarded without discussions, the award will be based on the applicant's signature on the SF 424, which constitutes a binding offer.

VI. Award Administration Information

A. Award Notices

All award notifications will be posted on the ETA homepage at http://www.doleta.gov.

B. Administrative and National Policy Requirements

1. Administrative Program Requirements

All grantees, including faith-based organizations, will be subject to all applicable Federal laws (including provisions of appropriate laws), regulations, and the applicable Office of Management and Budget (OMB) Circulars. The grant(s) awarded under this SGA will be subject to the following administrative standards and provisions, if applicable:

a. Workforce Investment Boards—20 Code of Federal Regulations (CFR) part 667.220. (Administrative Costs).

b. Non-Profit Organizatioqns—Office of Management and Budget (OMB) Circulars A-122 (Cost Principles) and 29 CFR part 95 (Administrative Requirements).

c. Educational Institutions—OMB Circulars A-21 (Cost Principles) and 29 CFR part 95 (Administrative Requirements).

d. State and Local Governments—OMB Circulars A-87 (Cost Principles) and 29 CFR part 97 (Administrative Requirements).

e. Profit Making Commercial Firms—Federal Acquisition Regulation (FAR)—48 CFR part 31 (Cost Principles), and 29 CFR part 95 (Administrative Requirements).

f. All entities must comply with 29 CFR parts 93 and 98, and, where applicable, 29 CFR parts 96 and 99.

g. In accordance with Section 18 of the Lobbying Disclosure Act of 1995, Public Law 104-65 (2 U.S.C. 1611) non-profit entities incorporated under Internal Revenue Service Code section 501(c)(4) that engage in lobbying activities are not eligible to receive Federal funds and grants.

Note: Except as specifically provided in this Notice, DOL/ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the DOL/ETA's award does not provide the justification or basis to sole source the procurement, i.e., avoid competition, unless the activity is regarded as the primary work of an official partner to the application.

2. Special Program Requirements

Evaluation. DOL may require that the program or project participate in an evaluation of overall HGJTI grant performance. To measure the impact of grants funded under the HGJTI, ETA may arrange for or conduct an independent evaluation of the outcomes and benefits of the projects. Grantees must agree to make records on participants, employers and funding available and to provide access to program operating personnel and to participants, as specified by the evaluator(s) under the direction of ETA, including after the expiration date of the grant.

3. Reporting

The grantee is required to provide the reports and documents listed below:

Quarterly Financial Reports. A Quarterly Financial Status Report (SF 269) is required until such time as all funds have been expended or the grant period has expired. Quarterly reports are due 30 days after the end of each calendar year quarter. Grantees must use ETA's On-Line Electronic Reporting System.

Quarterly Progress Reports. The grantee must submit a quarterly progress report to the designated Federal Project Officer within 30 days after the end of each quarter. Two copies are to be submitted providing a detailed account of activities undertaken during that quarter. DOL may require additional data elements to be collected and reported on either a regular basis or special request basis. Grantees must agree to meet DOL reporting requirements. The quarterly progress report should be in narrative form and should include:

1. In-depth information on accomplishments, including project success stories, upcoming grant activities, and promising approaches and processes.

2. Progress toward performance outcomes, including updates on product, curricula, and training development.

a. If the project includes training elements, provide employment placement, employment retention, and earnings gain data.

b. If the project includes capacity building elements, provide project impact data (e.g., the number of participants who have benefited) and the status of specific deliverables.

c. When appropriate, include employer outcomes such as increased productivity, Return On Investment (ROI), and/or retention rates.

3. Challenges, barriers, or concerns regarding project progress.

4. Lessons learned in the areas of project administration and management, project implementation, partnership relationships and other related areas.

Final Report. A draft final report must be submitted no later than 60 days prior to the expiration date of the grant. This report must summarize project activities, employment outcomes, and related results of the training project, and should thoroughly document the solution approach. After responding to DOL questions and comments on the draft report, three copies of the final report must be submitted no later than the grant expiration date. Grantees must agree to use a designated format specified by DOL for preparing the final report.

VII. Agency Contacts

Any questions regarding this SGA should be faxed to Eric Luetkenhaus, Grant Officer, Division of Federal Assistance, fax number (202) 693-2705. (This is not a toll-free number). You must specifically address your fax to the attention of Eric Luetkenhaus and should include SGA/DFA PY 04-1, a contact name, fax and phone number.

FOR FURTHER INFORMATION CONTACT: Kevin Brumback, Grants Management Specialist, Division of Federal Assistance, on (202) 693-3381. (This is not a toll-free number). This announcement is also being made available on the ETA Web site at http://www.doleta.gov/sga/sga.cfm and http://www.grants.gov.

VIII. Other Information

Resources for the Applicant

The Department of Labor maintains a number of web-based resources that may be of assistance to applicants. The webpage for the Employment and Training Administration's Business Relations Group (http://www.doleta.gov/BRG) is a valuable source of background on the President's High Growth Job Training Initiative. America's Service Locator (http://www.servicelocator.org) provides a directory of our nation's One-Stop Career Centers. Applicants are encouraged to review “Understanding the Department of Labor Solicitation for Grant Applications and How to Write an Effective Proposal” (http://www/dol.gov/cfbci/sgabrochure.htm). “Questions and Answers” regarding this solicitation will be posted and updated on the Web (http://www.doleta.gov/usworkforce). For a basic understanding of the grants process and basic responsibilities of receiving Federal grant support, please see “Guidance for Faith-Based and Community Organizations on Partnering with the Federal Government (http://www.fbci.gov).

Signed at Washington, DC, this 14th day of September.
Eric D. Luetkenhaus,
Grant Officer, Employment & Training Administration.

Appendix A: (SF) 424—Application Form

Appendix B: Budget Information Form

Appendix C: Assurances and Certifications Signature Page

Appendix D: OMB Survey N. 1890-0014: Survey on Ensuring Equal Opportunity for Applicants

BILLING CODE 4510-30-P

[FR Doc. 04-20953 Filed 9-16-04; 8:45 am]

BILLING CODE 4510-30-C